DEPARTMENT OF THE INTERIOR

National Park Service

National Register of Historic Places; Notification of Pending Nominations

Nominations for the following properties being considered for listing in the National Register were received by the National Park Service before March 4, 2000. Pursuant to § 60.13 of 36 CFR Part 60 written comments concerning the significance of these properties under the National Register criteria for evaluation may be forwarded to the National Register, National Park Service, 1849 C St. NW, NC400, Washington, DC 20240. Written comments should be submitted by March 30, 2000.

Carol D. Shull,
Keeper of the National Register.

ALASKA

Valdez-Cordova Borough-Census Area, Million Dollar Bridge, Mile 48, Copper River Highway, Cordova, 00000293

ARKANSAS

Garland County, Joplin, Peter, Commercial Block, 426-432 Ouachita Ave., Hot Springs, 00000294

CALIFORNIA

Santa Barbara County, Virginia Hotel, 17 and 23 W. Haley St., Santa Barbara, 00000295

CONNECTICUT

Fairfield County, Huntington Center Historic District, Roughly along Church and Huntington Sts., from Ripton Rd. to the Farmill River, Shelton, 00000296

Middlesex County, Hartlands, 50 Hartlands Dr., Old Saybrook, 00000298

New Haven County, Castle, Dr. Andrew, House, 555 Amity Rd., Woodbridge, 00000299

Wolcott Green Historic District, Roughly bounding Wolcott Green, Wolcott, 00000297

GEORGIA

De Kalb County, Emory Grove Historic District, Centered on N. Decatur Rd. bet. the CSX RR and the University Park-Emory Highlands-Emory Estates HD, Decatur, 00000300

Jackson County, Hoschton Depot, 4276 GA 53, Hoschton, 00000304

Putnam County, Terrell—Sadler House, 122 Harmony Rd., Harmony, 00000303

Stephens County, Eastanollee Auditorium, NE corner of Eastanolle School Rd. and Red Hollow Rd., Eastanollee, 00000301

Walton County, Briscoe House and Mill Site, 1109 New Hope Church Rd., Between, 00000302

INDIANA

Marion County, Town of Crows Nest Historic District, Roughly bounded by Kessler Blvd., White R., and Questover Circle, Indianapolis, 00000305

IOWA

Woodbury County, Florence Crittenton Home and Maternity Hospital, 1105-1111 28th St., Sioux City, 00000306

LOUISIANA

Natchitoches Parish Fredericks Site, Address Restricted, Clarence, 00000307

MISSOURI

Jackson County, Keith, Charles S., House, 1214 W. 55th ST., Kansas City, 00000308

Pike County, Barnard, Capt. George and Attella, House, 2009/2109 Georgia St., Louisiana, 00000309

NEW YORK

Westchester County, Asbury United Methodist Church and Bethel Chapel and Cemetery, 19 Old Post Rd. and Old Post Rd. S, Croton-on-Hudson, 00000310

VIRGINIA

Bedford County, New Prospect Church, 4445 Sheep Creek Rd., Bedford, 00000312

Brunswick County, Lawrenceville Historic District, Roughly bounded by W. Sixth Ave., Maria St., Lawrenceville townline, Rose Creek, and Thomas St., Lawrenceville, 00000313

Franklin County, Bowman Farm, 1605 Cahas Mountain Rd., Boones Mill, 00000314

Goochland County, Ben Dover, 661 River Rd. W #36, Manakin-Sabot, 00000311

Norfolk Independent City John T. West School, 1435 Bolton St., Norfolk, 00000315

WISCONSIN

Jefferson County, Telfer Site, Address Restricted, Milford, 00000316

Marathon County, Edgar Village Hall, 107 W. Beech St., Edgar, 00000317

After meeting all the requirements, a waving of the fifteen day comment period has been made for the following resource:

NEW YORK

Cayuga County, Schines Auburn Theatre, 12-14 South St., Auburn, 94001333

[FR Doc. 00-6296 Filed 3-14-00; 8:45 am]

BILLING CODE 4310-70-P